DEPARTMENT OF COMMERCE

National Oceanic and Atmospheric Administration

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: STORMREADY®, STORMREADY/TSUNAMIREADYTM, AND STORMREADY® SUPPORTER Application Forms

OMB Control Number: 0648-0419.

Form Number(s): None.

Type of Request: Regular (extension of a currently approved information collection).

Number of Respondents: 265.

Average Hours Per Response: Initial applications, 2 hours; renewal applications, 1 hour.

Burden Hours: 505.

Needs and Uses: StormReady and TsunamiReady are voluntary programs offered as a means of providing guidance and incentive to officials interested in improving their respective hazardous weather operations. The StormReady Application Form, Tsunami-Ready Application Form and TsunamiReady/StormReady Application Form are used by localities to apply for initial StormReady or TsunamiReady and StormReady recognition and renewal of that recognition every six years. The government will use the information collected to determine whether a community has met all of the criteria to receive StormReady and/or TsunamiReady recognition. In addition, businesses, schools, non-profit organizations and other non-governmental entities often establish severe weather safety plans and actively promote severe weather safety awareness activities but may not have the resources necessary to fulfill all the eligibility requirements to achieve the full StormReady recognition. These entities may apply through the StormReady Supporter program for recognition.

Affected Public: Business or other for-profit organizations; not for profit institutions; state, local or tribal governments.

Frequency: One time or every six years.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: March 19, 2015.
Sarah Brabson,
NOAA PRA Clearance Officer.

[FR Doc. 2015-06680 Filed 3-23-15; 8:45 am]

BILLING CODE 3510-KE-P